FEDERAL COMMUNICATIONS COMMISSION

47 CFR Part 52

[WC Docket No. 18-336; FCC 24-111; FR ID 258492]

Implementation of the National Suicide Hotline Act of 2018

Correction

In Rule Document 2024-25912, appearing on pages 88890 through 88905, in the issue of Tuesday, November 12, 2024, make the following correction:

On page 88890, in the first column, in the DATES section, in the 9th and 10th lines “December 13, 2024” should read “December 12, 2024”.

[FR Doc. C1-2024-25912 Filed 11-20-24; 4:15 pm]

BILLING CODE 0099-10-D